DEPARTMENT OF ENERGY

Federal Energy Regulatory Commission

Combined Notice of Filings

Take notice that the Commission has received the following Natural Gas Pipeline Rate and Refund Report filings:

Filings Instituting Proceedings

Docket Numbers: RP16-838-000.

Applicants: Natural Gas Pipeline Company of America.

Description: § 4(d) Rate Filing: Calpine Energy Services to be effective 5/1/2016.

Filed Date: 4/13/16.

Accession Number: 20160413-5201.

Comments Due: 5 p.m. ET 4/25/16.

Docket Numbers: RP16-839-000.

Applicants: Alliance Pipeline L.P.

Description: § 4(d) Rate Filing: Daily Service April 13-30 2016 to be effective 4/13/2016.

Filed Date: 4/13/16.

Accession Number: 20160413-5236.

Comments Due: 5 p.m. ET 4/25/16.

Docket Numbers: RP16-840-000.

Applicants: Southeast Supply Header, LLC.

Description: Compliance filing SESH RP16-511 Compliance Filing to be effective 4/1/2016.

Filed Date: 4/13/16.

Accession Number: 20160413-5245.

Comments Due: 5 p.m. ET 4/25/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-415-001.

Applicants: Florida Gas Transmission Company, LLC.

Description: Compliance filing Compliance with RP16-415-000 NAESB Order to be effective 4/1/2016.

Filed Date: 4/13/16.

Accession Number: 20160413-5080.

Comments Due: 5 p.m. ET 4/25/16.

Docket Numbers: RP16-436-001.

Applicants: Sea Robin Pipeline Company, LLC.

Description: Compliance filing Compliance with RP16-436-000 NAESB Order to be effective 4/1/2016.

Filed Date: 4/13/16.

Accession Number: 20160413-5081.

Comments Due: 5 p.m. ET 4/25/16.

Docket Numbers: RP16-444-001.

Applicants: Leaf River Energy Center LLC.

Description: Compliance filing Leaf River Energy Center LLC—Order No. 587-W Directed Changes to be effective 4/1/2016.

Filed Date: 4/13/16.

Accession Number: 20160413-5148.

Comments Due: 5 p.m. ET 4/25/16.

Docket Numbers: RP16-471-001.

Applicants: Gulf States Transmission LLC.

Description: Compliance filing Compliance with RP16-471 NAESB Order to be effective 4/1/2016.

Filed Date: 4/13/16.

Accession Number: 20160413-5084.

Comments Due: 5 p.m. ET 4/25/16.

Docket Numbers: RP16-546-001.

Applicants: Dominion Transmission, Inc.

Description: Compliance filing DTI—RP16-546 NAESB Compliance to be effective 4/1/2016.

Filed Date: 4/13/16.

Accession Number: 20160413-5083.

Comments Due: 5 p.m. ET 4/25/16.

Docket Numbers: RP16-547-001.

Applicants: Dominion Cove Point LNG, LP.

Description: Compliance filing DCP—(RP16-547) NAESB Compliance to be effective 4/1/2016.

Filed Date: 4/13/16.

Accession Number: 20160413-5079.

Comments Due: 5 p.m. ET 4/25/16.

Docket Numbers: RP16-550-001.

Applicants: Transwestern Pipeline Company, LLC.

Description: Compliance filing Compliance with RP16-550 NAESB Order to be effective 4/1/2016.

Filed Date: 4/13/16.

Accession Number: 20160413-5082.

Comments Due: 5 p.m. ET 4/25/16.

Docket Numbers: RP16-559-001.

Applicants: Horizon Pipeline Company, L.L.C.

Description: Compliance filing Compliance Filing to be effective 4/1/2016.

Filed Date: 4/13/16.

Accession Number: 20160413-5123.

Comments Due: 5 p.m. ET 4/25/16.

Docket Numbers: RP16-560-001.

Applicants: Kinder Morgan Louisiana Pipeline LLC.

Description: Compliance filing Compliance Filing to be effective 4/1/2016.

Filed Date: 4/13/16.

Accession Number: 20160413-5127.

Comments Due: 5 p.m. ET 4/25/16.

Docket Numbers: RP16-564-001.

Applicants: Natural Gas Pipeline Company of America.

Description: Compliance filing Compliance Filing to be effective 4/1/2016.

Filed Date: 4/13/16.

Accession Number: 20160413-5124.

Comments Due: 5 p.m. ET 4/25/16.

Docket Numbers: RP16-568-001.

Applicants: Kinder Morgan Illinois Pipeline LLC.

Description: Compliance filing Compliance Filing Substitute Sheets for Order 587-W to be effective 4/1/2016.

Filed Date: 4/13/16.

Accession Number: 20160413-5096.

Comments Due: 5 p.m. ET 4/25/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2016.
Kimberly D. Bose,
Secretary.

[FR Doc. 2016-10411 Filed 5-3-16; 8:45 am]

BILLING CODE 6717-01-P